DEPARTMENT OF COMMERCE

National Oceanic and Atmospheric Administration

RIN 0648-XD416

Takes of Marine Mammals Incidental to Specified Activities; Taking Marine Mammals Incidental to Seismic Surveys in Cook Inlet, Alaska

AGENCY: National Marine Fisheries Service (NMFS), National Oceanic and Atmospheric Administration (NOAA), Commerce.

ACTION: Notice; receipt of application for letter of authorization; request for comments and information.

SUMMARY: NMFS has received a request from Apache Alaska Corporation (Apache) for authorization to take marine mammals incidental to oil and gas exploration seismic operations in Cook Inlet, AK, from March 2015 through February 2020. Pursuant to the Marine Mammal Protection Act (MMPA) implementing regulations, NMFS is announcing our receipt of Apache's request for the development and implementation of regulations governing the incidental taking of marine mammals and inviting information, suggestions, and comments on Apache's application and request.

DATES: Comments and information must be received no later than September 4, 2014.

ADDRESSES: Comments on the application should be addressed to Jolie Harrison, Chief, Permits and Conservation Division, Office of Protected Resources, National Marine Fisheries Service, 1315 East-West Highway, Silver Spring, MD 20910. The mailbox address for providing email comments is ITP.Nachman@noaa.gov. NMFS is not responsible for email comments sent to addresses other than the one provided here. Comments sent via email, including all attachments, must not exceed a 25-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

A copy of Apache's application may be obtained by visiting the internet at: http://www.nmfs.noaa.gov/pr/permits/incidental.htm. Documents cited in this notice may also be viewed, by appointment, during regular business hours, at the aforementioned address.

FOR FURTHER INFORMATION CONTACT: Candace Nachman, Office of Protected Resources, NMFS, (301) 427-8401.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specific geographical region if certain findings are made and either regulations are issued or, if the taking is limited to harassment for no more than 1 year, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

Except with respect to certain activities not pertinent here, the MMPA defines “harassment” as any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

On July 11, 2014, NMFS received a complete application from Apache requesting authorization for the take of six marine mammal species incidental to an oil and gas exploration seismic program in Cook Inlet, AK, over the course of 5 years, which would necessitate the promulgation of 5-year regulations. The purpose of the proposed project is to explore for and develop oil and gas resources in Cook Inlet. The following specific aspects of the activities are likely to result in the take of marine mammals: seismic airgun operations. Apache requests authorization to take six marine mammal species by Level B harassment only: beluga whale (Delphinapterus leucas); killer whale (Orcinus orca); harbor porpoise (Phocoena phocoena); gray whale (Eschrichtius robustus); harbor seal (Phoca vitulina richardsi); and Steller sea lion (Eumetopias jubatus). Injury or mortality is unlikely during the proposed seismic survey, and take by Level A harassment (including injury) or mortality is not requested in Apache's application.

Specified Activities

In the application submitted to NMFS, Apache requests authorization to take marine mammals incidental to a seismic survey program in Cook Inlet, AK. Apache proposes to conduct seismic operations in both intertidal and offshore areas, utilizing two synchronized source vessels and nodal technology. Sections 2 and 3 of Apache's application (see ADDRESSES) describe the activities in detail, as well as the timing and location.

Information Solicited

Interested persons may submit information, suggestions, and comments concerning Apache's request (see ADDRESSES). All information, suggestions, and comments related to Apache's request and NMFS' potential development and implementation of regulations governing the incidental taking of marine mammals by Apache's activities will be considered by NMFS in developing, if appropriate, the most effective regulations governing the issuance of letters of authorization.

Dated: July 30, 2014.
Donna S. Wieting,
Director, Office of Protected Resources, National Marine Fisheries Service.

[FR Doc. 2014-18444 Filed 8-4-14; 8:45 am]

BILLING CODE 3510-22-P